DEPARTMENT OF COMMERCE

International Trade Administration

A-823-808

Certain Cut-to-Length Carbon Steel Plate from Ukraine; Final Results of Full Sunset Review of the Suspension Agreement

AGENCY: Import Administration, International Trade Administration, Department of Commerce.

ACTION: Notice of Final Results of the Full Sunset Review of the Suspension Agreement on Certain Cut-to-Length Carbon Steel Plate from Ukraine

SUMMARY:

On November 25, 2008, the Department of Commerce (“the Department”) published a notice of preliminary results of the full sunset review of the suspended antidumping duty investigation on certain cut-to-length carbon steel plate (“CTL plate”) from Ukraine pursuant to section 751(c) of the Tariff Act of 1930, as amended (“the Act”). See Certain Cut-to-Length Carbon Steel Plate from Ukraine; Preliminary Results of Full Sunset Review of the Suspension Agreement, 73 FR 71603 (November 25, 2008) (“Preliminary Results”). We provided interested parties an opportunity to comment on our Preliminary Results. The Department did not receive comments from either domestic or respondent interested parties. As a result of this review, the Department continues to find that termination of the suspended antidumping duty investigation on CTL plate from Ukraine would likely lead to a continuation or recurrence of dumping at the levels indicated in the “Final Results of Review” section of this notice.

EFFECTIVE DATE: March 20, 2009.

FOR FURTHER INFORMATION CONTACT: Judith Wey Rudman or Jay Carreiro, Import Administration, International Trade Administration, U.S. Department of Commerce, 14th Street and Constitution Avenue, N.W., Washington, DC 20230, telephone: (202) 482-0192 or (202) 482-3674.

SUPPLEMENTARY INFORMATION:

Background

On November 25, 2008, the Department published in the Federal Register a notice of preliminary results of the full sunset review of the suspended antidumping duty investigation on CTL plate from Ukraine, pursuant to section 751(c) of the Act. See Preliminary Results, 73 FR 71603. In our Preliminary Results, we found that the termination of the suspended antidumping duty investigation on CTL plate from Ukraine would be likely to lead to a continuation or recurrence of dumping at the margins determined in the final determination of the original investigation. Id. We provided interested parties an opportunity to comment on our Preliminary Results. Id. We did not receive comments from either domestic or respondent interested parties.

Scope of Review

The products covered by the Agreement include hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in the Agreement are flat-rolled products of nonrectangular cross-section where such cross-section is achieved subsequent to the rolling process (i.e., products which have been “worked after rolling”) for example, products which have been beveled or rounded at the edges. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Although the HTS subheadings are provided for convenience and customs purposes, the written description of the scope of the Agreement is dispositive. Specifically excluded from subject merchandise within the scope of this Agreement is grade X-70 steel plate.

Final Results of Review

We have made no changes to our Preliminary Results, 73 FR 71603. We continue to find that termination of the suspended antidumping duty investigation on CTL plate from Ukraine would likely lead to a continuation or recurrence of dumping at the following percentage weighted-average margins:

Manufacturer/producer/exporter | Weighted-average margin percentage
Azovstal | 81.43
Ilyich | 155.00
Ukraine-wide | 237.91

In accordance with section 752(c)(3) of the Act, we will notify the International Trade Commission of the final results of this full sunset review.

This notice also serves as the only reminder to parties subject to administrative protective orders (“APO”) of their responsibility concerning the return or destruction of proprietary information disclosed under APO in accordance with section 351.305 of the Department's regulations. Timely notification of the return or destruction of APO materials or conversion to judicial protective order is hereby requested. Failure to comply with the regulations and terms of an APO is a violation which is subject to sanction.

We are issuing and publishing this notice in accordance with sections 751(c), 752(c), and 777(i)(1) of the Tariff Act.

Dated: March 13, 2009.
Ronald K. Lorentzen,
Acting Assistant Secretary for Import Administration.

[FR Doc. E9-6160 Filed 3-19-09; 8:45 am]

BILLING CODE 3510-DS-S